DEPARTMENT OF ENERGY

10 CFR Part 430

[Docket No. EERE-2012-BT-TP-0016]

RIN 1904-AC76

Energy Conservation Program for Consumer Products: Test Procedures for Refrigerators, Refrigerator-Freezers, and Freezers

AGENCY: Office of Energy Efficiency and Renewable Energy, Department of Energy.

ACTION: Extension of public comment period.

SUMMARY: On July 10, 2013, the U.S. Department of Energy (DOE) published a notice of proposed rulemaking (NOPR) for test procedures for refrigerators, refrigerator-freezers, and freezers in the Federal Register. This document announces an extension of the public comment period for submitting comments on two specific issues on which DOE had sought comment. The comment period on all other issues in the NOPR remains unchanged.

DATES: DOE will accept comments, data, and information regarding this rulemaking published July 10, 2013 (78 FR 41610) received no later than September 23, 2013, except on the items specified in this notice, for which DOE will accept comments, data, and information until no later than January 31, 2014.

ADDRESSES: Any comments submitted must identify the NOPR for test procedures for refrigerators, refrigerator-freezers, and freezers and provide docket number EERE-2012-BT-TP-0016 and/or Regulation Identification Number (RIN) 1904-AC76, by any of the following methods:

• Federal eRulemaking Portal: http://www.regulations.gov. Follow the instructions for submitting comments.

• Email: Res-Refrig-Freezer-2012-BT-TP-0016@ee.doe.gov. Include the docket number EERE-2012-BT-TP-0016 and/or RIN 1904-AC76 in the subject line of the message.

• Mail: Ms. Brenda Edwards, U.S. Department of Energy, Building Technologies Program, Mailstop EE-2J, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx/ruleid/75.

This Web page contains links to supporting materials and information for this rulemaking on the regulations.gov site. The regulations.gov Web page contains instructions on how to access all documents in the docket, including public comments.

FOR FURTHER INFORMATION CONTACT: Mr. Lucas Adin, U.S. Department of Energy, Office of Energy Efficiency and Renewable Energy, Building Technologies, EE-2J, 1000 Independence Avenue SW., Washington, DC 20585-0121. Telephone: (202) 287-1317. Email: Lucas.Adin@ee.doe.gov.

In the Office of the General Counsel, contact Mr. Michael Kido, U.S. Department of Energy, Office of the General Counsel, GC-71, 1000 Independence Avenue SW., Washington, DC 20585-0121. Telephone: (202) 586-8145. Email: Michael.Kido@hq.doe.gov.

SUPPLEMENTARY INFORMATION:

On July 10, 2013, DOE published a notice of proposed rulemaking (NOPR) that would amend the test procedures for residential refrigerators, refrigerator-freezers, and freezers (collectively, residential refrigerators). (78 FR 41610) That notice provided a comment deadline of September 23, 2013. On August 7, 2013 the Association of Home Appliance Manufacturers (AHAM) requested that DOE extend this comment period for two very specific issues raised in the July notice. Those issues, which involved DOE's proposed inclusion of an icemaking test procedure (Issue Item 2) along with the possible inclusion of certain testing requirements for built-in residential refrigerators (Issue Item 15), would, in AHAM's view, require additional time for manufacturers to fully evaluate. (AHAM Comment Extension Request, No. 24). AHAM requested an extension of the comment period until January 31, 2014. (See 78 FR at 41658 and 78 FR at 41661). AHAM recommended that the comment period on the other issues in the NOPR remain open until September 23, 2013. In its request, AHAM stated that this extension was necessary due to the timing of the NOPR, which was published while manufacturers were preparing their annual DOE certification reports. AHAM also noted that manufacturers are in the process of product development and testing in preparation for the amended energy conservation standards, the compliance date of which is September 15, 2014. Because of these issues, AHAM stated that manufacturers would need additional time to perform laboratory testing to evaluate the proposals in the NOPR.

Because DOE is likely to rely to a significant extent on the data and information that manufacturers provide in making any final determinations on these issues, DOE has determined that an extension of the public comment period is appropriate and is hereby extending the comment period on the issues identified by AHAM. DOE will consider any comments on Items 2 and 15 in section E of the July 10, 2013 NOPR that are received by midnight on January 31, 2014, and deems any comments received by that time on these issues to be timely submitted. For all other issues in the NOPR, DOE will consider any comments received by midnight on September 23, 2013, and deems any comments on all other remaining issues that are received by that time to be timely submitted.

DOE notes that the granting of this extension will likely lengthen the time necessary for finalization of any proposals regarding the items for which the comment extension was granted. Because the other items in the NOPR may affect the manner in which manufacturers perform the test procedures for compliance with the amended energy conservation standards, which DOE understands some manufacturers may begin using well in advance of the September 15, 2014 compliance date, DOE believes it necessary to finalize those proposals as expeditiously as is feasible. Accordingly, DOE may finalize a rule that addresses all issues other than Items 2 and 15 (i.e. the icemaking test procedure and additional testing requirements for built-in refrigerators) prior to the resolution of these two items.

DOE also notes that the extension of the comment period for these two items will not exceed the 270-day comment period limit imposed by EPCA. See 42 U.S.C. 6293(b)(2).

Issued in Washington, DC, on August 23, 2013.
Kathleen B. Hogan,
Deputy Assistant Secretary for Energy Efficiency, Energy Efficiency and Renewable Energy.

[FR Doc. 2013-21115 Filed 8-28-13; 8:45 am]

BILLING CODE 6450-01-P